DEPARTMENT OF TRANSPORTATION

Federal Aviation Administration

Notice of Intent To Rule on Request To Release Airport Property at the Lehigh Valley International Airport (ABE), Allentown, Pennsylvania

AGENCY: Federal Aviation Administration (FAA) DOT.

ACTION: Notice of request to release airport property for non-aeronautical purposes.

SUMMARY: The FAA proposes to rule and invite public comment on the release of land for non-aeronautical purposes at the Lehigh Valley International Airport (ABE), Allentown, Pennsylvania.

DATES: Comments must be received on or before October 18, 2017.

ADDRESSES: Comments on this application may be mailed or delivered to the following address: Ryan Meyer, Senior Aviation Planner, Lehigh Valley International Airport, 3311 Airport Road Allentown, Pennsylvania 18109; and at the FAA Harrisburg Airports District Office: Lori K. Pagnanelli, Manager, Harrisburg Airports District Office, 3905 Hartzdale Dr., Suite 508, Camp Hill, PA 17011.

FOR FURTHER INFORMATION CONTACT: Rick Harner, Civil Engineer, Harrisburg Airports District Office, location listed above.

The request to release property may be reviewed in person at this same location.

SUPPLEMENTARY INFORMATION: The FAA invites public comment on the request to release airport property for non-aeronautical purposes at the Lehigh Valley International Airport under the provisions of Section 47125(a) of Title 49 U.S.C. On September 6, 2017, the FAA determined that the request to release airport property for non-aeronautical purposes at the Lehigh Valley International Airport (ABE), Pennsylvania, submitted by the Lehigh Northampton Airport Authority (Authority), met the procedural requirements. Final release of the property is subject to FAA's NEPA determination made on April 17, 2017.

The following is a brief overview of the request:

The Authority requests the release of a portion of airport property totaling 244.427 acres, which is no longer needed for aeronautical purposes. Of the total 244.427 acres, 174.887 acres are part of Parcel H-1, 49.068 acres are part of Parcel V, 16.177 acres are part of Parcel N-2, and 4.294 acres are part of Parcel X-2. These parcels are located in Allen Township and were originally included as part of larger property purchased with federal funds over multiple AIP grants.

The 244.427 acres requested for non-aeronautical use are to be released to the Rockefeller Group Development Corporation (Rockefeller Group), 500 International Drive North, Suite 345, Mt. Olive, NJ 07828. The property is located in the northwest corner of existing airport property and is being used for contract farming purposes. The undeveloped property is located in Allen Township at the intersection of Willowbrook Road and Race Street. As shown on ABE's approved Airport Layout Plan, the property does not serve an aeronautical purpose and is not needed for current or future airport development. The property was part of an inverse condemnation judgment against the Authority. The proceeds from the Fair Market Value (FMV) sale of the 244.427 acres of property will be used for eligible airport development purposes, as outlined in FAA Order 5190.6B, Airport Compliance Manual.

Any person may inspect the request by appointment at the FAA office address listed above. Interested persons are invited to comment on the proposed release. All comments will be considered by the FAA to the extent practicable.

Issued in Camp Hill, Pennsylvania, September 12, 2017.
Lori K. Pagnanelli,
Manager, Harrisburg Airports District Office.

[FR Doc. 2017-19785 Filed 9-15-17; 8:45 am]

BILLING CODE 4910-13-P